DEPARTMENT OF STATE

[Delegation of Authority 255]

Delegation by the Deputy Secretary of State to the Assistant Secretary for Educational and Cultural Affairs of All Authorities Normally Vested in the Under Secretary for Public Diplomacy and Public Affairs

By virtue of the authority vested in me by the laws of the United States, including the Mutual Educational and Cultural Exchange Act of 1961, the United States Information and Educational Exchange Act of 1948, and the State Department Basic Authorities Act of 1956, and pursuant to Delegation of Authority No. 245 (April 23, 2001), I hereby delegate to the Assistant Secretary for Educational and Cultural Affairs, to the extent authorized by law, all authorities vested in the Under Secretary for Public Diplomacy and Public Affairs, including all authorities vested in the Secretary that have been delegated to that Under Secretary by Delegation of Authority No. 234 (October 1, 1999), or that may be delegated or re-delegated to that Under Secretary.

Any authorities covered by this delegation may also be exercised by the Secretary and the Deputy Secretary of State.

Any act, executive order, regulation or procedure subject to, or affected by, this delegation shall be deemed to be such act, executive order, regulation or procedure as amended from time to time.

This delegation shall enter into effect on March 29, 2003, and shall expire upon the appointment and entry upon duty of a new Under Secretary for Public Diplomacy and Public Affairs.

Any re-delegation of authority by the Under Secretary for Public Diplomacy and Public Affairs to the Assistant Secretary for Educational and Cultural Affairs, pursuant to Delegation of Authority No. 234, shall remain in effect.

This delegation shall be published in the Federal Register.

Dated: March 25, 2003.
Richard L. Armitage,
Deputy Secretary of State, Department of State.

[FR Doc. 03-8249 Filed 4-3-03; 8:45 am]

BILLING CODE 4710-10-P